DEPARTMENT OF DEFENSE

Department of the Air Force

[Docket ID: USAF-2014-0008]

Privacy Act of 1974; System of Records

AGENCY: Department of the Air Force, DoD.

ACTION: Notice to alter a System of Records.

SUMMARY: The Department of the Air Force proposes to alter a system of records, F036 AF DP A, entitled “Air Force Family Integrated Results and Statistical Tracking” in its existing inventory of records systems subject to the Privacy Act of 1974, as amended. This system maintains a record of customer service data to determine the effectiveness of Airman and Family Readiness Center activities and services and provide reports reflecting impact of services on mission and family readiness to leadership.

DATES: Comments will be accepted on or before May 9, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571)256-2515.

SUPPLEMENTARY INFORMATION: The Department of the Air Force's notices for systems of records subject to the Privacy Act of 1974 (5 U.S.C. 552a), as amended, have been published in the Federal Register and are available from the address in FOR FURTHER INFORMATION CONTACT or at the Defense Privacy and Civil Liberties Web site at http://dpclo.defense.gov/.

The proposed systems reports, as required by 5 U.S.C. 552a(r) of the Privacy Act, as amended were submitted on March 28, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: April 3, 2014.
Aaron Siegel,
Alternate OSD Federal Register Liaison Officer, Department of Defense.

F036 AF DP A

System name:

Air Force Family Integrated Results and Statistical Tracking (January 19, 2011, 76 FR 3115).

* * * * *

Changes:

System ID:

Delete entry and replace with “F036 AFPC Z”.

System name:

Delete entry and replace with “Air Force Family Integrated Results and Statistical Tracking (AFFIRST).”

System location:

Delete entry and replace with “Headquarters Air Force Personnel Center, Directorate of Airman and Family Care, Airman and Family Care Division, (HQ AFPC/DPFF), 550 C. Street West, Randolph Air Force Base, TX 78150-4739.

Installation Airman and Family Centers. Official mailing addresses are published as an appendix to the Air Force's compilation of systems of records notices.”

Categories of individuals covered by the system:

Delete entry and replace with “Military personnel and family members, DoD civilians, and individuals of the general public who are authorized to use Air Force Family Readiness facilities.”

Categories of records in the system:

Delete entry and replace with “Name, Social Security Number (SSN), Department of Defense Identification number (DoD ID number), gender, date of birth, home address, home and work phone, work email, unit, branch of service, rank, squadron, client visit/service notes of services provided and referrals to other agencies.”

* * * * *

Purpose(s):

Delete entry and replace with “To maintain a record of customer service data determining the effectiveness of Airman and Family Readiness Center activities and services and provide reports reflecting impact of services on mission and family readiness to leadership. Also used as a management tool for statistical analysis, tracking, reporting, evaluating program effectiveness, and conducting research.”

* * * * *

Retrievability:

Delete entry and replace with “Name, SSN and/or DoD ID number.”

Safeguards:

Delete entry and replace with “Records are accessed by person(s) responsible for servicing the record system in the performance of their official duties and by authorized personnel who are properly screened and cleared for need-to-know. Records are only accessed by authorized personnel with Common Access Card (CAC) and need-to-know.”

Retention and disposal:

Delete entry and replace with “Electronic Records are destroyed after one year or when no longer needed whichever is later. Electronic records are destroyed by erasing, deleting, or overwriting.”

System manager(s) and address:

Delete entry and replace with “Air Force Family Integrated Results and Statistical Tracking system (AFFIRST) Program Manager, Headquarters Air Force Personnel Center (AFPC), Airman and Family Division, Directorate of Airman and Family Care, (AFPC/DPFF), 550 C Street West, Suite 10, Randolph Air Force Base, TX 78150-4712.”

Notification procedure:

Delete entry and replace with “Individuals seeking to determine whether this system of records contains information on themselves should address written inquiries to the system manager, or the installation Airman and Family Center. Official mailing addresses are published as an appendix to the Air Force's compilation of systems of records notices.

For verification purposes, individual should provide their full name, SSN and/or DoD ID Number, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.”

Record access procedures:

Delete entry and replace with “Individuals seeking to access records about themselves contained in this system should address written requests to the system manager, or the installation Airman and Family Center. Official mailing addresses are published as an appendix to the Air Force's compilation of systems of records notices.

For verification purposes, individual should provide their full name, SSN and/or DoD ID Number, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.”

Contesting record procedures:

Delete entry and replace with “The Air Force rules for accessing records and for contesting contents and appealing initial agency determinations are published in Air Force Instruction 33-332, Air Force Privacy Program; 32 CFR part 806b; or may be obtained from the system manager.”

Record source categories:

Delete entry and replace with “Information obtained from individual, unit of assignment, referral agencies and personnel records.”

* * * * *

[FR Doc. 2014-07874 Filed 4-8-14; 8:45 am]

BILLING CODE 5001-05-P